DEPARTMENT OF COMMERCE

International Trade Administration

[A-552-801]

Certain Frozen Fish Fillets From the Socialist Republic of Vietnam: Extension of Time Limit for Preliminary Results of the Seventh Antidumping Duty Administrative Review

AGENCY: Import Administration, International Trade Administration, Department of Commerce.

ACTION: Notice.

SUMMARY: On September 29, 2010, the Department of Commerce (“Department”) published a notice of initiation of antidumping and countervailing duty administrative reviews and requests for revocation in part for certain frozen fish fillets from the Socialist Republic of Vietnam covering the period August 1, 2009, through July 31, 2010. The Department may, however, extend the deadline for completion of the preliminary results of an administrative review to 365 days if it determines it is not practicable to complete the review within the foregoing time period.

DATES: Effective Date: April 13, 2011.

FOR FURTHER INFORMATION CONTACT: Alexis Polovina or Javier Barrientos, AD/CVD Operations, Office 9, Import Administration, International Trade Administration, U.S. Department of Commerce, 14th Street and Constitution Avenue, NW., Washington, DC 20230; telephone: (202) 482-3927 and (202) 482-2243, respectively.

SUPPLEMENTARY INFORMATION:

Background

On September 29, 2010, the Department of Commerce (“Department”) published a notice of initiation of antidumping and countervailing duty administrative reviews and requests for revocation in part for certain frozen fish fillets from the Socialist Republic of Vietnam covering the period August 1, 2009, through July 31, 2010. See Initiation of Antidumping and Countervailing Duty Administrative Reviews and Requests for Revocation in Part, 75 FR 60076 (September 29, 2010). The preliminary results are currently due on May 3, 2011.

Extension of Time Limits for Preliminary Results

Section 751(a)(3)(A) of the Tariff Act of 1930, as amended (“Act”), and 19 CFR 351.213(h)(1) require the Department to issue the preliminary results in an administrative review of an antidumping duty order 245 days after the last day of the anniversary month of the order for which the administrative review was requested. The Department may, however, extend the deadline for completion of the preliminary results of an administrative review to 365 days if it determines it is not practicable to complete the review within the foregoing time period. See section 751(a)(3)(A) of the Act and 19 CFR 351.214(h)(2).

The Department finds that it is not practicable to complete the preliminary results within this time limit. The Department is extending the deadline because it has provided parties additional time to submit surrogate country comments and thus will require additional time to analyze these comments. We are therefore extending the time for the completion of the preliminary results of this review by 120 days to August 31, 2011.

This notice is published in accordance with section 751(a)(3)(A) of the Act and 19 CFR 351.213(h)(2).

Dated: April 7, 2011.
Gary Taverman,
Acting Deputy Assistant Secretary for Antidumping and Countervailing Duty Operations.

[FR Doc. 2011-8940 Filed 4-12-11; 8:45 am]

BILLING CODE 3510-DS-P